JUDICIAL CONFERENCE OF THE UNITED STATES

Meeting of the Judicial Conference Advisory Committee on Rules of Bankruptcy Procedure

AGENCY: Judicial Conference of the United States Advisory Committee on Rules of Bankruptcy Procedure.

ACTION: Notice of open meeting.

SUMMARY: The Advisory Committee on Rules of Bankruptcy Procedure will hold a two-day meeting. The meeting will be open to public observation but not participation.

Date: September 13-14, 2001.

Time: 8:30 a.m. to 5 p.m.

Address: John Carver Inn, 25 Summer Street, Plymouth, MA

FOR FURTHER INFORMATION CONTACT: John K. Rabiej, Chief, Rules Committee Support Office, Administrative Office of the United States Courts, Washington, DC 20544, telephone (202) 502-1820.

Dated: August 22, 2001.
John K. Rabiej,
Chief, rules Committee Support Office.

[FR Doc. 01-21729 Filed 8-28-01; 8:45 am]

BILLING CODE 2210-55-M